DEPARTMENT OF THE INTERIOR

National Park Service

[2280-665]

National Register of Historic Places; Notification of Pending Nominations and Related Actions

Nominations for the following properties being considered for listing or related actions in the National Register were received by the National Park Service before February 11, 2011. Pursuant to sections 60.13 or 60.15 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St., NW., 8th floor, Washington, DC 20005; or by fax, 202-371-6447. Written or faxed comments should be submitted by March 31, 2011.

Before including your address, phone number, e-mail address, or other personal identifying information in your comment, you should be aware that your entire comment—including your personal identifying information—may be made publicly available at any time. While you can ask us in your comment to withhold your personal identifying information from public review, we cannot guarantee that we will be able to do so.

Paul Loether,
Chief, National Register of Historic Places/National Historic Landmarks Program.

CALIFORNIA

San Francisco County

Waybur, Julian, House, 3232 Pacific Ave, San Francisco, 11000143

Santa Clara County

Seven Springs Ranch, 11801 Dorothy Anne Way, Cupertino, 11000146

FLORIDA

Orange County

Church of the Good Shepherd, 331 Lake Ave, Maitland, 11000144

St. Johns County

Nelmar Terrace Historic District, Alfred St, San Carlos Ave, San Marcos Ave, Hospital Creek, St. Augustine, 11000145

KENTUCKY

Jessamine County

Crockett, Joseph, House Union Mills Pike, Nicholasville, 83004587

MASSACHUSETTS

Essex County

East Parish Meeting House, 267 Middle Rd, Haverhill, 11000149

NEBRASKA

Cheyenne County

Woodsshire Residential Historic District, Bounded by High and Calvert Sts, South 17th to South 20th Sts, Lincoln, 11000147

Douglas County

Farm Credit Building, 206 S 19th St, >Omaha, 11000148

NORTH CAROLINA

Guilford County

Mock, Judson, Voehringer Company Hosiery Mill, 2610 Oakland Ave, Greensboro, 11000141

NORTH DAKOTA

McHenry County

Lower Souris National Wildlife Refuge Airplane Hangar, 681 Salyer Rd, Upham, 11000140

TENNESSEE

Sullivan County

East Hill Cemetery, East State Street at Georgia Ave, Bristol, 11000142

OTHER ACTIONS: Request for REMOVAL has been made for the following resource:

NORTH DAKOTA

Stutsman

Cecil Baker Round Barn, ND 38, Kensal, 86002759

[FR Doc. 2011-6047 Filed 3-15-11; 8:45 am]

BILLING CODE 4312-51-P